DEPARTMENT OF JUSTICE

Immigration and Naturalization Service

[INS No. 2231-02]

Registration and Monitoring of Certain Nonimmigrants; Notice of Ports-of-Entry for Departure of Aliens Who Are Subject to Special Registration

AGENCY: Immigration and Naturalization Service, Justice.

ACTION: Notice.

SUMMARY: On August 12, 2002, the Attorney General published a final rule in the Federal Register at 67 FR 52584, revising the special registration requirements for nonimmigrant aliens whose presence in the United States requires closer monitoring. The final rule became effective on September 11, 2002. The final rule also requires that when a nonimmigrant alien subject to special registration departs from the United States, he or she must report to an inspecting officer of the Immigration and Naturalization Service (Service) at any port-of-entry (POE), unless the Service has, by publication in the Federal Register, specified that nonimmigrant aliens subject to special registration may not depart from specific ports. The requirement for an alien subject to special registration to report to the Service prior to departing the United States becomes effective on October 1, 2002. This notice provides the public with a list of ports through which nonimmigrant aliens who have been specially registered may depart from the United States. The list is provided in the affirmative as a list of approved ports to assist the public.

DATES: This notice is effective October 1, 2002.

FOR FURTHER INFORMATION CONTACT: Stephen M. Dearborn, Assistant Chief Inspector, Immigration and Naturalization Service, 425 I Street, NW., Room 4064, Washington, DC 20536, telephone number (202) 305-2970.

SUPPLEMENTARY INFORMATION:

Nonimmigrant Aliens Subject to Special Registration Requirements

Immigration and Naturalization Service (Service) regulations to be codified at 8 CFR 264.1(f) (see 67 FR 52584, August 12, 2002) provide that nonimmigrant aliens (other than those applying under section 101(a)(15)(A), or (G) of the Act (8 U.S.C. 1101(a)(15)(A), (G)) who meet certain criteria are subject to special registration, photographing and fingerprinting requirements upon arrival to the United States. If a nonimmigrant alien who is registered, photographed and fingerprinted, remains in the United States beyond 30 days, he or she must report in person to a Service Office to provide additional documentation that confirms that he or she is complying with the terms of his or her admission. This interview is repeated annually thereafter. Upon each change of address, the registrant must also notify the Service, educational institution, or employer, where applicable. Beginning on October 1, 2002, when a nonimmigrant alien subject to special registration departs the United States, he or she is required to report to an inspecting officer at the POE through which the alien is departing unless the Service has specified in a Federal Register notice that certain ports may not be used for departure by special registrants. A nonimmigrant alien, subject to special registration, who fails to report his or her departure to an inspecting officer as required, may thereafter be presumed to be inadmissible to the United States.

POEs Which Are Not Available for Departure for Nonimmigrant Aliens Subject to Special Registration

Nonimmigrant aliens who are subject to special registration may not depart the United States from any POE listed in, or regarded as designated by 8 CFR 100.4(c)(2), or (c)(3), or any other point-of-embarkation, other than those listed below.

POEs Designated for Final Registration and Departure by Nonimmigrant Aliens Subject to Special Registration

The following POEs are specifically designated for final registration and departure by nonimmigrant aliens subject to special registration:

Amistad Dam POE, Texas;

Anchorage International Airport, Alaska;

Atlanta Hartsfield International Airport, Georgia;

Bell Harbor Pier 66 Cruise Ship Terminal, Washington;

Bridge of the Americas POE, Texas;

Brownsville/Matamoras POE, Texas;

Buffalo Peace Bridge POE, New York;

Cape Vincent POE, New York;

Calexico POE, California;

Chicago O'Hare International Airport, Illinois;

Champlain POE, New York;

Chateaugay POE, New York;

Columbus POE, New Mexico;

Dallas/Fort Worth International Airport, Texas;

Del Rio International Bridge POE, Texas;

Denver International Airport, Colorado;

Detroit Canada Tunnel, Michigan;

Detroit Metro Airport, Michigan;

Douglas POE, Arizona;

Dulles International Airport, Virginia;

Eagle Pass POE, Texas;

Fort Covington POE, New York;

Galveston POE, Texas;

Guam International Airport;

Heart Island POE, New York;

Hidalgo POE, Texas;

Highgate Springs POE, Vermont;

Honolulu International Airport, Hawaii;

Honolulu Seaport, Hawaii;

Houston George Bush Intercontinental Airport, Texas;

Houston Seaport, Texas;

International Falls POE, Minnesota;

John F. Kennedy International Airport, New York;

Gateway to the Americas Bridge POE, Laredo, Texas;

Lewiston Bridge POE, New York;

Logan International Airport, Massachusetts;

Long Beach Seaport, California;

Los Angeles International Airport, California;

Miami International Airport, Florida;

Miami Marine Unit, Florida;

Minneapolis/St. Paul International Airport, Minnesota;

Mooers POE, New York;

Niagara Falls, Rainbow Bridge, New York;

Newark International Airport, New Jersey;

Nogales POE, Arizona;

Ogdensburg POE, New York;

Orlando, Florida;

Oroville POE, Washington;

Otay Mesa POE, California;

Pacific Highway POE, Washington;

Pembina POE, North Dakota;

Piegan POE, Montana;

Portal POE, North Dakota;

Port Arthur POE, Texas;

Progreso Bridge POE, Texas;

Raymond POE, Montana;

Roosville POE, Montana;

Rouses Point POE, New York;

San Antonio International Airport, Texas;

San Diego Seaport, California;

San Francisco International Airport, California;

Seattle Seaport, Washington;

Seaway International Bridge/Massena POE, New York;

Seattle Tacoma International Airport, Washington;

Sweetgrass POE, Montana;

Thousand Islands POE, New York;

Trout River POE, New York; and

Ysleta POE, Texas.

Nonimmigrant aliens subject to special registration may not make final registration and depart the United States through any location not listed above.

Notice of Where To Report for Final Registration and Departure

Upon admission to the United States, each nonimmigrant alien subject to special registration will be issued an information packet that will list each designated port of departure and other instructions on how to comply with 8 CFR 264.1. This packet will also contain specific information regarding hours of operation, directions, and contact numbers.

The list of ports-of-entry through which nonimmigrant aliens subject to special registration must make final registration and depart will become effective on October 1, 2002. Due to the critical and immediate national security concerns of this program the Service must limit the ports-of-departure to effectively capture departure data, given the limited availability of current resources, specifically departure staff and facilities. As the available ports-of-entry are expanded, the Service will publish subsequent notices in the Federal Register and make the list available at Service Offices and on its Web site at http://www.ins.usdoj.gov.

Dated: September 10, 2002.
James W. Ziglar,
Commissioner, Immigration and Naturalization Service.

[FR Doc. 02-24764 Filed 9-25-02; 3:45 am]

BILLING CODE 4410-10-U